DEPARTMENT OF HEALTH AND HUMAN SERVICES

Centers for Disease Control and Prevention

[60Day-21-21CM; Docket No. CDC-2021-0009]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on proposed and/or continuing information collections, as required by the Paperwork Reduction Act of 1995. This notice invites comment on a proposed information collection project titled National Center for Health Statistics' Research and Development Survey (RANDS) during COVID-19—Round 3. The Research and Development Survey (RANDS) is designed to quickly obtain and disseminate information about selected population health characteristics during the ongoing coronavirus pandemic, and to provide documentation supporting the validity of pandemic-related survey questions, including questions, such as those on telehealth access and use, that will continue to be important for public health after the pandemic.

DATES: Written comments must be received on or before April 13, 2021.

ADDRESSES: You may submit comments, identified by Docket No. CDC-2021-0009 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

National Center for Health Statistics Research and Development Survey (RANDS) during COVID-19 (Round 3)—New—National Center for Health Statistics (NCHS), Centers for Disease Control and Prevention (CDC).

Background and Brief Description

The National Center for Health Statistics (NCHS) has submitted a six-month OMB emergency clearance for a Research and Development Survey (RANDS) COVID-19 related data collection. Since COVID-19 has resulted in a public health crisis, this information collection requests approval to conduct a follow-on survey (Round 3) to the previously completed rounds of RANDS. Similar to the previous two rounds of RANDS completed during COVID-19, this information collection will use NORC's AmeriSpeak Panel as its sample source.

The RANDS COVID-19 (Round 3) collection will be used for the purpose of continuing NCHS' developmental survey methods and will generate data that can help explain health-related experiences of the United States population during this period. The data collection includes not only a research component, but will also contribute to CDC's ongoing surveillance of the COVID-19 pandemic. Given the current outbreak and the resulting limitations placed on NCHS' other data collections, RANDS will provide NCHS and CDC with early estimates of COVID-19-related concepts. The questionnaire will cover areas such as general health, psychological distress, chronic conditions, health behaviors, the outbreak's effects on healthcare access, loss of work due to illness with COVID-19, telemedicine access and use, and other health and behavioral aspects related to the epidemic. CDC requests approval for an estimated 1,734 burden hours over the course of the six-month approval. There are no costs to respondents other than their time.

Estimated Annualized Burden Table
Types of respondents | Form name | Number of participants | Number of responses/ participant | Average hours per response | Response burden (in hours)
Individuals or households | RANDS-COVID-19 Round 3 | 5,200 | 1 | 20/60 | 1,734
Total |  | 5,200 |  |  | 1,734

Jeffrey M. Zirger,
Lead, Information Collection Review Office, Office of Scientific Integrity, Office of Science, Centers for Disease Control and Prevention.

[FR Doc. 2021-02950 Filed 2-11-21; 8:45 am]

BILLING CODE 4163-18-P